DEPARTMENT OF THE INTERIOR

Fish and Wildlife Service

[FWS-HQ-IA-2015-N118; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species

Permit number | Applicant | Receipt of application Federal Register notice | Permit issuance date
71826A | Marvin Turner | 80 FR 19341; April 10, 2015 | May 18, 2015
61948B | Kenneth Dalton | 80 FR 19341; April 10, 2015 | May 14, 2015
59527B | Mark Robinson | 80 FR 19341; April 10, 2015 | May 15, 2015
59502B | Joseph Cutillo | 80 FR 19341; April 10, 2015 | May 15, 2015
61398B | Scott Schuster | 80 FR 21259; April 17, 2015 | May 19, 2015
42627B | Los Angeles Zoo and Botanical Gardens | 80 FR 21259; April 17, 2015 | May 22, 2015
59497B | Jared Forbus | 80 FR 21259; April 17, 2015 | June 2, 2015
54405B | TULSA ZOO MANAGEMENT, INC | 80 FR 24961; May 1, 2015 | June 18, 2015

Marine Mammals

Permit number | Applicant | Receipt of application Federal Register notice | Permit issuance date
212570 | National Marine Mammal Laboratory, NOAA | 79 FR 65980; November 6, 2014 | June 9, 2015
03086A | Robert Rockwell, American Museum of Natural History | 80 FR 24961; May 1, 2015 | June 8, 2015
62018B | British Broadcasting Corporation—Big Blue Live | 80 FR 28296; May 18, 2015 | June 19, 2015

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-15578 Filed 6-24-15; 8:45 am]

BILLING CODE 4310-55-P